COMMITTEE FOR PURCHASE FROM PEOPLE WHO ARE BLIND OR SEVERELY DISABLED

Procurement List Proposed Additions and Deletion

AGENCY: Committee for Purchase From People Who Are Blind or Severely Disabled.

ACTION: Proposed Additions to and Deletion from the Procurement List.

SUMMARY: The Committee is proposing to add products and a service to the Procurement List that will be furnished by nonprofit agencies employing persons who are blind or have other severe disabilities, and deletes a product previously furnished by such agency.

DATES: Comments Must be Received on Or Before: 11/24/2014.

ADDRESSES: Committee for Purchase From People Who Are Blind or Severely Disabled, 1401 S. Clark Street, Suite 10800, Arlington, Virginia 22202-4149.

For Further Information Or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: 7220-00-NIB-0439—Step/Ramp Kit, Anti-Slip Treads, Peel-and-Stick, Black, 6″ x 24″

NPA: Louisiana Association for the Blind, Shreveport, LA.

Contracting Activity: Defense Logistics Agency Troop Support, Philadelphia, PA.

Coverage: C-List for 100% of the requirement of the Department of Defense, as aggregated by the Defense Logistics Agency Troop Support, Philadelphia, PA.

NSN: MR 10668—Tumbler, Drinking, 16 oz, Licensed.

NSN: MR 10667—Thermos, 25 oz, Licensed.

NSN: MR 10666—Jar, Drinking, 19 oz, Licensed.

NPA: Winston-Salem Industries for the Blind, Inc., Winston-Salem, NC.

Contracting Activity: Defense Commissary Agency, Fort Lee, VA.

Coverage: C-List for the requirements of military commissaries and exchanges as aggregated by the Defense Commissary Agency, Fort Lee, VA.

Service

Service Type/Location: Facilities Maintenance Service, US Coast Guard, US Coast Guard Yard, Curtis Bay, 2401 Hawkins Point Road, Baltimore, MD.

NPA: Skookum Educational Programs, Bremerton, WA.

Contracting Activity: Dept of Homeland Security, U.S. Coast Guard, SFLC Procurement Branch 3, Baltimore, MD.

Deletion

The following product is proposed for deletion from the Procurement List:

Product

Tire Inflator Gage

NSN: 4910-00-441-8685.

NPA: Beaufort County Developmental Center, Inc., Washington, NC.

Contracting Activity: Defense Logistics Agency Land and Maritime, Columbus, OH.

Barry S. Lineback,
Director, Business Operations.

[FR Doc. 2014-25335 Filed 10-23-14; 8:45 am]

BILLING CODE 6353-01-P